DEPARTMENT OF DEFENSE

Department of the Army, Corps of Engineers

Implementation of the Water Resources Reform and Development Act of 2014; Public Meetings

AGENCY: U.S. Army Corps of Engineers, DoD.

ACTION: Notice of public meetings

SUMMARY: The Department of the Army, Headquarters, U.S. Army Corps of Engineers, announces a series of listening sessions by webinar for public input to inform the agency's implementation of the Water Resources Reform and Development Act of 2014. Each meeting will focus on implementation of a specific collection of provisions in the Act.

DATES: The public meetings will take place via webinar on August 13, 2014; August 27, 2014; September 10, 2014; and September 24, 2014. Each webinar will commence at 14:00 Eastern Daylight Time.

ADDRESSES: Headquarters, U.S. Army Corps of Engineers, 441 G Street NW., Washington, DC 20314.

FOR FURTHER INFORMATION CONTACT: Mr. Bruce Carlson, Acting Chief, Planning and Policy, HQUSACE at WRRDA@usace.army.mil or (202) 761-4703 or visit the U.S. Army Corps of Engineer Web site at http://www.usace.army.mil/Missions/CivilWorks/ProjectPlanning/legislativelinks.aspx.

SUPPLEMENTARY INFORMATION:

Background: The Water Resources Reform and Development Act of 2014 (Pub. L. 113-121) became law on June 10, 2014. This Act establishes new laws governing the water resources programs and projects of the U.S. Army Corps of Engineers and authorizes the implementation of various projects. The Act may be found at https://beta.congress.gov/113/bills/hr3080/BILLS-113hr3080enr.pdf. In coordination with the Secretary of the Army, the U.S. Army Corps of Engineers will prepare guidance establishing policies and procedures to implement this legislation. The U.S. Army Corps of Engineers will hold several listening sessions by webinar for public input to inform the agency's implementation of the Water Resources Reform and Development Act of 2014. Each meeting will focus on implementation of a specific collection of provisions in the Act:

• Category/Session I (August 13, 2014)

○ Deauthorizations & Backlog Prevention

○ Project Development and Delivery (Including Planning)

• Category/Session II (August 27, 2014)

○ Alternative Financing—Contributions

○ Alternative Financing—Title V

○ Credits

• Category/Session III (September 10, 2014)

○ Levee Safety

○ Dam Safety

○ Regulatory (including 408)

• Category/Session IV (September 24, 2014)

○ Non-Federal Implementation

○ Water Supply and Reservoir

○ Navigation

The specific provisions to be considered for each session will be enumerated on the U.S. Army Corps of Engineer Web site at http://www.usace.army.mil/Missions/CivilWorks/ProjectPlanning/legislativelinks.aspx.

Agenda: The agenda for each webinar will include: (1) Welcome and introductions; (2) overview of the meeting format; (3) remarks from the Senior Corps presiding officer; (4) Explanation of the rules for making comments at the meeting by the meeting facilitator; (5) Comments by the public as presided over by the meeting facilitator and (5) adjournment.

Public Participation: Members of the public can participate in the meetings by web connection or by telephone. Detailed instructions, including the meeting phone number and web link for each meeting, will be available on the U.S. Army Corps of Engineer Web site at: http://www.usace.army.mil/Missions/CivilWorks/ProjectPlanning/legislativelinks.aspx.

Written comments: In addition to presenting comments at this public meeting webinar, the public may also make written suggestions or recommendations for implementation of the Sections of the Act enumerated above. Members of the public who wish to submit written suggestions or recommendations for consideration by the Corps in preparing implementation guidance must email wrrda@usace.army.mil or send them to Mr. Bruce Carlson, HQUSACE, 441 G Street NW., Washington, DC 20314 by September 30, 2014 to provide sufficient time for review. Written comments are optional.

Dated: July 24, 2014.
Bruce D. Carlson,
Acting Chief, Planning and Policy, Directorate of Civil Works, HQUSACE.

[FR Doc. 2014-17874 Filed 7-28-14; 8:45 am]

BILLING CODE 3720-58-P